OFFICE OF PERSONNEL MANAGEMENT

5 CFR Part 532

Prevailing Rate Systems

CFR Correction

In Title 5 of the Code of Federal Regulations, Parts 1 to 699, revised as of January 1, 2017, in Appendix C to Subpart B of part 532: On page 469, under NEW YORK, the wage area listing for Newburgh is removed; and on page 482, under WASHINGTON, in the Southeastern Washington-Eastern Oregon wage area listing, Area of application. Survey area plus:, under Washington, Columbia is added.

[FR Doc. 2017-23913 Filed 11-1-17; 8:45 am]

BILLING CODE 1301-00-D